DEPARTMENT OF THE INTERIOR

Minerals Management Service

Agency Information Collection Activities: Submitted for Office of Management and Budget (OMB) Review; Comment Request

AGENCY: Minerals Management Service (MMS), Interior.

ACTION: Notice of an extension of a currently approved information collection (OMB Control Number 1010-0110).

SUMMARY: To comply with the Paperwork Reduction Act of 1995 (PRA), we are notifying the public that we have submitted to OMB an information collection request (ICR) to renew approval of the paperwork requirements in accordance with Executive Order 12862, dated September 11, 1993, Setting Customer Service Standards. This notice also provides the public a second opportunity to comment on the paperwork burden of these requirements. The ICR is titled “Training and Outreach Evaluation Form (Form MMS-4420A-E).” We changed the title of this ICR because we reorganized the parts of the form. The previous title was “Training and Outreach Evaluation Form (Form MMS-4420A-H.”

DATES: Submit written comments on or before September 29, 2004.

ADDRESSES: Submit written comments by either FAX (202) 395-6566 or e-mail (OIRA_Docket@omb.eop.gov) directly to the Office of Information and Regulatory Affairs, OMB, Attention: Desk Officer for the Department of the Interior (OMB Control Number 1010-0110). Mail or hand-carry a copy of your comments to Sharron L. Gebhardt, Lead Regulatory Specialist, Minerals Management Service, Minerals Revenue Management, P.O. Box 25165, MS 302B2, Denver, Colorado 80225. If you use an overnight courier service, our courier address is Building 85, Room A-614, Denver Federal Center, Denver, Colorado 80225. You may also e-mail your comments to us at mrm.comments@mms.gov. Include the title of the information collection and the OMB Control Number in the “Attention” line of your comment. Also include your name and return address. Submit electronic comments as an ASCII file avoiding the use of special characters and any form of encryption. If you do not receive a confirmation that we have received your e-mail, contact Ms. Gebhardt at (303) 231-3211.

FOR FURTHER INFORMATION CONTACT: Sharron L. Gebhardt, telephone (303) 231-3211, FAX (303) 231-3781, e-mail Sharron.Gebhardt@mms.gov. You may also contact Sharron Gebhardt to obtain a copy of the Form MMS-4420A-E at no cost.

SUPPLEMENTARY INFORMATION: Title: “Training and Outreach Evaluation Form (Form MMS-4420A-E).”

OMB Control Number: 1010-0110.

Bureau Form Number: Form MMS-4420A-E.

Abstract: The Department of the Interior is responsible for matters relevant to mineral resource development on Federal and Indian lands and the Outer Continental Shelf (OCS). The Secretary of the Department of the Interior under The Mineral Leasing Act (30 U.S.C. 1923) and The Outer Continental Shelf Lands Act (43 U.S.C. 1353) is responsible for managing the production of minerals from Federal and Indian lands and the OCS, collecting royalties from lessees who produce minerals, and distributing the funds collected in accordance with applicable laws. The Secretary has an Indian trust responsibility to manage Indian lands and seek advice and information from Indian beneficiaries. The MMS performs the royalty management functions and assists the Secretary in carrying out the Department's Indian trust responsibility.

The MMS frequently provides training and outreach sessions to its constituents to facilitate their compliance with laws and regulations and to ensure that they are well informed. We present training sessions to oil and gas and solid minerals reporters on various aspects of royalty reporting, production reporting, and valuation. Additionally, we provide training sessions to our financial and systems contractors and State and tribal auditors. We use training and outreach evaluation forms to survey our customers and to improve our training and outreach efforts, as directed in Executive Order 12862, Setting Customer Service Standards (September 11, 1993).

We ask participants to complete and return evaluation forms during the last few minutes of each training or outreach session. Participant response is voluntary. Some questions are uniform across all of the evaluation forms; however, some questions are specific to the audience or to each type of training or outreach.

The MMS collects this information using our Training and Outreach Evaluation Form MMS-4420, which we have modified and reorganized. We combined in-house training evaluation under one part. We deleted the Indian outreach evaluation because MMS is currently working with Departmental bureaus and offices to implement the Department's Comprehensive Trust Management Plan. The MMS will be involved in a Department-wide outreach process for American Indian beneficiaries, and any Indian outreach evaluation form will be developed and coordinated with the other bureaus for Department-wide use.

The MMS is requesting OMB's approval to continue to collect information relevant to our training and outreach efforts. Not collecting this information would limit our ability to obtain feedback and to improve our training and outreach, which could affect our customers' knowledge of laws and regulations and their ability to comply.

No proprietary information is submitted, and no questions of a sensitive nature are included in this information collection. The requirement to respond is voluntary.

Frequency: On occasion.

Estimated Number and Description of Respondents: 950 industry representatives, State and tribal auditors, and MMS contractors.

Estimated Annual Reporting and Recordkeeping “Hour” Burden: 95 hours.

We are reducing the number of burden hours from the current OMB inventory of 126 hours to 95 hours. This reduction reflects a decrease in the number of responses, which is primarily the result of deleting the Indian outreach evaluation.

Estimated Annual Reporting and Recordkeeping “Non-hour” Cost Burden: We have identified no “non-hour” cost burdens.

Public Disclosure Statement: The PRA (44 U.S.C. 3501, et seq.) provides that an agency may not conduct or sponsor, and a person is not required to respond to, a collection of information unless it displays a currently valid OMB Control Number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on December 29, 2003 (68 FR 74968), announcing that we would submit this ICR to OMB for approval. The notice provided the required 60-day comment period. We received no comments in response to the notice.

If you wish to comment in response to this notice, you may send your comments to the offices listed under the ADDRESSES section of this notice. OMB has up to 60 days to approve or disapprove the information collection but may respond after 30 days. Therefore, to ensure maximum consideration, OMB should receive public comments by September 29, 2004.

Public Comment Policy: We will post all comments in response to this notice on our Web site at http://www.mrm.mms.gov/Laws_R_D/InfoColl/InfoColCom.htm. We will also make copies of the comments available for public review, including names and addresses of respondents, during regular business hours at our offices in Lakewood, Colorado. Upon request, we will withhold an individual respondent's home address from the public record, as allowable by law. There also may be circumstances in which we would withhold from the rulemaking record a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: May 21, 2004.
Richard Adamski,
Acting Associate Director for Minerals Revenue Management.

[FR Doc. 04-19651 Filed 8-27-04; 8:45 am]

BILLING CODE 4310-MR-P